DEPARTMENT OF VETERANS AFFAIRS

Privacy Act of 1974; System of Records

AGENCY: Department of Veterans Affairs (VA), Veterans Benefits Administration, Education Services.

ACTION: Notice of a modified system of records.

SUMMARY: An executive order, Establishing Principles of Excellence for Educational Institutions Serving our Service Members, Veterans, Spouses, and Other Family Members, requires the establishment of a centralized complaint system for students receiving Veteran educational benefits to submit complaints against institutions they feel have acted deceptively or fraudulently. VA proposes this modified system of records (SORs), entitled “Principles of Excellence Centralized Complaint System—VA” (170VA22). This system will provide a standardized method for students and others to submit a complaint or allegation that an entity or individual has not or may not have adhered to the Principles of Excellence established in the E.O.

DATES: Comments on this modified system of records must be received no later than 30 days after date of publication in the Federal Register. If no public comment is received during the period allowed for comment or unless otherwise published in the Federal Register by VA, the modified system of records will become effective a minimum of 30 days after date of publication in the Federal Register. If VA receives public comments, VA shall review the comments to determine whether any changes to the notice are necessary.

ADDRESSES: Comments may be submitted through www.Regulations.gov or mailed to VA Privacy Service, 810 Vermont Ave. NW, (005R1A), Washington, DC 20420. Comments should indicate that they are submitted in response to “Principles of Excellence Centralized Complaint System—VA” (170VA22). Comments received will be available at regulations.gov for public viewing, inspection, or copies.

FOR FURTHER INFORMATION CONTACT: Thomas Erickson, Department of Veterans Affairs, 810 Vermont Avenue NW, Washington, DC 20420, at (202) 461-9829 or Thomas.Erickson@va.gov.

SUPPLEMENTARY INFORMATION: The existing SORN 170VA22 has expired. The purpose of the modified SOR, established by Executive Order (E.O.) 13607, is to update the application in which the data is gathered and stored and bring the SOR current. Former application for the SORN has been sunset and required a new application for gathering and storing beginning February 2019. Routine uses are updated to reflect the selections from the Office of General Counsel (OGC) updated Fiscal Year 2021 Routine Uses OGC list.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on March 17, 2022 for publication.

Dated: April 27, 2022.
Amy L. Rose,
Program Analyst, VA Privacy Service, Office of Information Security, Office of Information and Technology, Department of Veterans Affairs.

SYSTEM NAME:

“Principles of Excellence Centralized Complaint System—VA” (170VA22).

SECURITY CLASSIFICATION:

Unclassified.

SYSTEM LOCATION:

Complaints or allegations concerning entities or individuals that have not or may not have adhered to the Principles of Excellence established in E.O. 13607 will be submitted by users of VA education benefits or Veterans, Servicemembers and their families. Registered complaints will be transmitted in a secure electronic format to VA Central Office for review. We utilize the FedRAMP authorization of Salesforce Government Cloud Plus which is hosted in the Amazon Web Services (AWS) GovCloud. Complaints are stored and managed in Salesforce, 44521 Hastings Drive, Ashburn, Virginia, United States, 20147. Policy issues concerning this system should be submitted to Department of Veterans Affairs, 810 Vermont Avenue NW, Washington, DC 20420.

SYSTEM MANAGER(S):

Charmain Bogue, Executive Director, Education Service, Department of Veterans Affairs, 810 Vermont Avenue NW, Washington, DC 20420, 202-461-9768, Charmain.Bogue@va.gov.

AUTHORITY FOR MAINTENANCE OF THE SYSTEM:

E.O. 13607, “Establishing Principles of Excellence for Educational Institutions Serving Service Members, Veterans, Spouses, and Other Family Members”.

PURPOSE(S) OF THE SYSTEM:

The information in the system is being collected to enable VA to receive, respond to, and refer complaints regarding VA educational assistance benefits. The system serves as a record of the complaint and is used for collecting complaint data; responding to or referring the complaint; aggregating data that will be used to inform other functions of VA and, as appropriate, other agencies and/or the public; and preparing reports as required by law. This system consists of complaints received by VA or other entities and information concerning responses to or referrals of these complaints, as appropriate.

CATEGORIES OF INDIVIDUALS COVERED BY THE SYSTEM:

Individuals covered by this system are individuals who submit complaints to VA (on their own); individuals on whose behalf complaints are submitted by others (such as attorneys, members of Congress, third party advocates, and/or other governmental organizations); and employees, the Federal Trade Commission, other Federal agencies, state agencies, or VA. Information collected is subject to the Privacy Act only to the extent that it concerns individuals; information pertaining to entities and organizations and is not subject to the Privacy Act.

CATEGORIES OF RECORDS IN THE SYSTEM:

Records in the system may contain: (1) Correspondence or other information received; (2) information from the entity or individual referring the complaint; (3) records created of verbal communications by or with complainants or other individuals; (4) information regarding third party advocates or others who submit complaints on another's behalf; (5) information identifying the entity that is subject to the complaint or its employees; (6) communication with or by the entity that is subject to the complaint or its employees; (7) unique identifiers, codes, and descriptors categorizing each complaint file; (8) information about how complaints were responded to or referred, including any resolution; (9) records used to respond to or refer complaints, including information in VA's other systems of records; and (10) identifiable information regarding both the individual who is making the complaint, and the individual on whose behalf such complaint is made, and employees of the entity about which the complaint was made, including name, social security number, account numbers, address, phone number, email address, and date of birth.

RECORD SOURCE CATEGORIES:

Information in this system is obtained from individuals and entities filing complaints and about entities or individuals that have not or may not have adhered to the Principles of Excellence established in the E.O. 13607. Furnishing the information is voluntary.

ROUTINE USES OF RECORDS MAINTAINED IN THE SYSTEM, INCLUDING CATEGORIES OF USERS AND THE PURPOSES OF SUCH USES:

1. Congress—To a Member of Congress or staff acting upon the Member's behalf when the Member or staff requests the information on behalf of, and at the request of, the individual who is the subject of the record.

2. Data Breach Response and Remediation, for VA—To appropriate agencies, entities, and persons when (1) VA suspects or has confirmed that there has been a breach of the system of records,· (2) VA has determined that as a result of the suspected or confirmed breach there is a risk of harm to individuals, VA (including its information systems, programs, and operations), the Federal Government, or national security; and (3) the disclosure made to such agencies, entities, and persons is reasonably necessary to assist in connection with VA's efforts to respond to the suspected or confirmed breach or to prevent, minimize, or remedy such harm.

3. Data Breach Response and Remediation, for Another Federal Agency—To another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

4. Law Enforcement—To a Federal, state, local, territorial, tribal, or foreign law enforcement authority or other appropriate entity charged with the responsibility of investigating or prosecuting such violation or charged with enforcing or implementing such law, provided that the disclosure is limited to information that, either alone or in conjunction with other information, indicates a violation or potential violation of law, whether civil, criminal, or regulatory in nature. The disclosure of the names and addresses of veterans and their dependents from VA records under this routine use must also comply with the provisions of 38 U.S.C. 5701.

5. Department of Justice (DOJ) for Litigation or Administrative Proceeding—To the Department of Justice (DoJ), or in a proceeding before a court, adjudicative body, or other administrative body before which VA is authorized to appear, when:

(a) VA or any component thereof;

(b) Any VA employee in his or her official capacity;

(c) Any VA employee in his or her individual capacity where DoJ has agreed to represent the employee; or

(d) The United States, where VA determines that litigation is likely to affect the agency or any of its components

is a party to such proceedings or has an interest in such proceedings, and VA determines that use of such records is relevant and necessary to the proceedings.

6. Contractors—To contractors, grantees, experts, consultants, students, and others performing or working on a contract, service, grant, cooperative agreement, or other assignment for VA, when reasonably necessary to accomplish an agency function related to the records.

7. Office of Personnel Management (OPM)—To the Office of Personnel Management (OPM) in connection with the application or effect of civil service laws, rules, regulations, or OPM guidelines in particular situations.

8. Equal Employment Opportunity Commission (EEOC)—To the Equal Employment Opportunity Commission (EEOC) in connection with investigations of alleged or possible discriminatory practices, examination of Federal affirmative employment programs, or other functions of the Commission as authorized by law.

9. FLRA—To the Federal Labor Relations Authority (FLRA) in connection with the investigation and resolution of allegations of unfair labor practices, the resolution of exceptions to arbitration awards when a question of material fact is raised, matters before the Federal Service Impasses Panel, and the investigation of representation petitions and the conduct or supervision of representation elections.

10. MSPB—To the Merit Systems Protection Board (MSPB) in connection with appeals, special studies of the civil service and other merit systems, review of rules and regulations, investigation of alleged or possible prohibited personnel practices, and such other functions promulgated in 5 U.S.C. 1205 and 1206, or as authorized by law.

11. NARA—To the National Archives and Records Administration (NARA) in records management inspections conducted under 44 U.S.C. 2904 and 2906, or other functions authorized by laws and policies governing NARA operations and VA records management responsibilities.

12. Federal Agencies, for Computer Matches—To other federal agencies for the purpose of conducting computer matches to obtain information to determine or verify eligibility of veterans receiving VA benefits or medical care under title 38.

13. Federal Agencies, Courts, Litigants, for Litigation or Administrative Proceedings—To another federal agency, court, or party in litigation before a court or in an administrative proceeding conducted by a Federal agency, when the government is a party to the judicial or administrative proceeding.

14. Consumer Reporting Agencies—To a consumer reporting agency for the purpose of locating the individual, obtaining a consumer report to determine the ability of the individual to repay an indebtedness to the United States, or assisting in the collection of such indebtedness, provided that the provisions of 38 U.S.C. 5701(g)(2) and (4) have been met, provided that the disclosure is limited to information that is reasonably necessary to identify such individual or concerning that individual's indebtedness to the United States by virtue of the person's participation in a benefits program administered by the Department.

15. OMB—To the Office of Management and Budget (OMB) for the performance of its statutory responsibilities for evaluating Federal programs.

16. Treasury, for Withholding—To the Department of the Treasury for the collection of title 38 benefit overpayments, overdue indebtedness, or costs of services provided to an individual not entitled to such services, by the withholding of all or a portion of the person's Federal income tax refund, provided that the disclosure is limited to information concerning an individual's indebtedness by virtue of a person's participation in a benefits program administered by VA.

17. Treasury, for Payment or Reimbursement—To the Department of the Treasury to facilitate payments to physicians, clinics, and pharmacies for reimbursement of services rendered or to veterans for reimbursement of authorized expenses, as well as to collect, by set off or otherwise, debts owed the United States.

POLICIES AND PRACTICES FOR STORAGE OF RECORDS:

Information will be collected by VA Form 22-0959, Principles of Excellence Complaint Intake Questionnaire, and telephone and stored in an electronic format.

POLICIES AND PRACTICES FOR RETRIEVAL OF RECORDS:

Records are retrievable by a variety of fields including without limitation to the individual's name, complaint case number, address, phone number, date of birth, or by some combination thereof.

POLICIES AND PRACTICES FOR RETENTION AND DISPOSAL OF RECORDS:

Disposition of records is according to NARA guidelines.

ADMINISTRATIVE, TECHNICAL, AND PHYSICAL SAFEGUARDS:

Access to electronic records is restricted to authorized personnel who have been issued non-transferrable access codes and passwords. Other records are maintained in locked file cabinets or rooms with access limited to those personnel whose official duties require access.

RECORD ACCESS PROCEDURES:

Individuals wishing to request access to records about them should contact the system manager indicated. Individuals must furnish the following for their records to be located and identified:

a. Full name

b. Address

c. Institution identified in complaint

Individuals requesting access must also follow the OPM's Privacy Act Regulations regarding verification of identity and amendment of records (5 CFR part 297).

CONTESTING RECORD PROCEDURES:

Individuals wishing to request access amendment of records about them should contact the system manager indicated. Individuals must furnish the following for their records to be located and identified:

a. Full name

b. Address

c. Institution identified in complaint

Individuals requesting access amendment of records must also follow OPM's Privacy Act Regulations regarding verification of identify and amendment of records (5 CFR part 297).

NOTIFICATION PROCEDURES:

Individuals may submit a request on whether a system contains records about them to the system manager indicated. Individuals must furnish the following for their records to be located and identified:

a. Full name

b. Address

c. Institution identified in complaint

EXEMPTIONS PROMULGATED FOR THE SYSTEM:

None.

HISTORY:

Last Federal Register notice citation 78 FR 12423 was published February 22, 2013.

[FR Doc. 2022-09377 Filed 4-29-22; 8:45 am]

BILLING CODE 8320-01-P